DEPARTMENT OF COMMERCE

Patent and Trademark Office

Initial Patent Applications

ACTION: Proposed collection; comment request.

SUMMARY: The United States Patent and Trademark Office (USPTO), as part of its continuing efforts to reduce paperwork and respondent burden, invites the general public and other Federal agencies to take this opportunity to comment on this revision of a continuing information collection, as required by the Paperwork Reduction Act of 1995, Public Law 104-13 (44 U.S.C. 3506(c)(2)(A)).

DATES: Written comments must be submitted on or before July 2, 2010.

ADDRESSES: You may submit comments by any of the following methods:

• E-mail: InformationCollection@uspto.gov. Include “0651-0032 comment” in the subject line of the message.

• Fax: 571-273-0112, marked to the attention of Susan K. Fawcett.

• Mail: Susan K. Fawcett, Records Officer, Office of the Chief Information Officer, U.S. Patent and Trademark Office, P.O. Box 1450, Alexandria, VA 22313-1450.

• Federal e-Rulemaking Portal: http://www.regulations.gov.

FOR FURTHER INFORMATION CONTACT: Requests for additional information should be directed to the attention of Raul Tamayo, Legal Advisor, Office of Patent Legal Administration, U.S. Patent and Trademark Office, P.O. Box 1450, Alexandria, VA 22313-1450; by telephone at 571-272-7728; or by e-mail at raul.tamayo@uspto.gov with “Paperwork” in the subject line.

SUPPLEMENTARY INFORMATION

I. Abstract

The USPTO is required by Title 35 of the United States Code, including 35 U.S.C. 131, to examine applications for patents. The USPTO administers the patent statues through various rules in Chapter 37 of the Code of Federal Regulations, including 37 CFR 1.16 through 1.84. The patent statutes and regulations require applicants to provide sufficient information to allow the USPTO to properly examine the application to determine whether it meets the criteria set forth in the patent statutes and regulations to be issued as a patent.

Most applications for patent, including new utility, design, and provisional applications, can be submitted to the USPTO on paper or through EFS-Web. EFS-Web is the USPTO's system for electronic filing of patent correspondence. EFS-Web is accessible via the Internet on the USPTO Web site. The system utilizes standard Web-based screens and prompts to enable users to submit patent documents in Portable Document Format (PDF) directly to the USPTO. The Legal Framework for EFS-Web, available at http://www.uspto.gov/patents/process/file/efs/guidance/New_legal_framework.jsp, provides a listing of patent applications and documents permitted to be filed via EFS-Web and patent applications and documents not permitted to be filed via EFS-Web.

The USPTO has identified continuation/divisional of an international application, utility continuation/divisional, design continuation/divisional, continued prosecution application—design, utility continuation-in-part, and design continuation-in-part applications as types of applications that can be filed electronically that were not identified as being able to be filed electronically in the last renewal of this collection.

The USPTO has also determined that the papers filed under 37 CFR 1.41 to supply the name or names of the inventor or inventors after the filing date without a cover sheet as prescribed by 37 CFR 1.51(c)(1) in a provisional application, 37 CFR 1.48 for correction of inventorship in a provisional application, and 37 CFR 1.53(c)(2) to convert a nonprovisional application filed under 37 CFR 1.53(b) to a provisional application under 37 CFR 1.53(c), which were originally overlooked, should be added into the collection at this time. These papers also have a processing fee associated with them that will be added into the collection as well. All of the other fees remain the same.

In order to get a more specific accounting of the additional fees and surcharges that can be applied to the various applications and to simplify the entry of these items into ROCIS, additional application groups have been broken out in this renewal. Previously, the utility, design, and plant applications were broken out in a manner that helped calculate the filing, search, and examination fees, but not in a manner that help calculate the additional fees and surcharges, which made it difficult to calculate the total burden for some of these applications.

There are 28 forms in this collection. The petitions and the papers filed to supply the name or names of the inventor or inventors after the filing date without a cover sheet in a provisional application, to correct inventorship in a provisional application, and to convert a nonprovisional application to a provisional application do not have forms associated with them.

II. Method of Collection

By mail, facsimile (limited to petitions to accept delayed priority claims, petitions to accept non-signing inventors or legal representatives filing by other than all the inventors or a person not the inventor, petitions to accord applications a national stage entry date, papers providing the name or names of the inventor or inventors after the filing date without a cover sheet in a provisional application, requests for correction of inventorship in a provisional application, and requests to convert a nonprovisional application to a provisional application), or hand delivery to the USPTO. As set forth in the Legal Framework for EFS-Web, available at http://www.uspto.gov/patents/process/file/efs/guidance/New legal framework.jsp, many types of patent applications and documents can also be submitted electronically through EFS-Web.

III. Data

OMB Number: 0651-0032.

Form Number(s): PTO/SB/01/01A/02/02LR/03/03A/04/05/06/07/13/PCT/14/16/17/18/19/29/29A/101-110.

Type of Review: Revision of a currently approved collection.

Affected Public: Individuals or households; businesses or other for profits; not-for-profit institutions; and the Federal Government.

Estimated Number of Respondents: 513,221 responses per year.

Estimated Time per Response: The USPTO estimates that it takes the public approximately 24 minutes to 33 hours and 12 minutes (0.40 to 33.2 hours) to complete this information, depending on the request. This includes the time to gather the necessary information, prepare the application, petition, paper, or CD submission, and submit the completed request to the USPTO. The USPTO believes that, on balance, it takes the same amount of time to gather the necessary information, prepare the new utility, design, or provisional application, and submit it to the USPTO, whether the applicant submits it in paper form or electronically.

Estimated Total Annual Respondent Burden Hours: 11,553,888 hours per year.

Estimated Total Annual Respondent Cost Burden: $3,755,013,600 per year. The USPTO believes that all of the information in this collection will be prepared by an attorney. Using the professional hourly rate of $325 for attorneys in private firms, the USPTO estimates that the total respondent cost burden for this collection is $3,755,013,600 per year.

Item | Estimated time for response | Estimated annual responses | Estimated annual burden hours
Original New Utility Applications—No Application Data Sheet | 33 hours and 12 minutes | 7,450 | 247,340
Electronic Original New Utility Applications—No Application Data Sheet | 33 hours and 12 minutes | 98,950 | 3,285,140
Original New Plant Applications—No Application Data Sheet | 7 hours and 36 minutes | 660 | 5,016
Original New Design Applications—No Application Data Sheet | 5 hours and 48 minutes | 795 | 4,611
Electronic Original Design Applications—No Application Data Sheet | 5 hours and 48 minutes | 10,545 | 61,161
Original New Utility Applications—Application Data Sheet | 33 hours and 12 minutes | 11,170 | 370,844
Electronic Original New Utility Applications—Application Data Sheet | 33 hours and 12 minutes | 148,430 | 4,927,876
Original New Plant Applications—Application Data Sheet | 7 hours and 36 minutes | 350 | 2,660
Original New Design Applications—Application Data Sheet | 5 hours and 48 minutes | 970 | 5,626
Electronic New Design Applications—Application Data Sheet | 5 hours and 48 minutes | 12,890 | 74,762
Continuation/Divisional of an International Application | 3 hours and 18 minutes | 740 | 2,442
Electronic Continuation/Divisional of an International Application | 3 hours and 18 minutes | 9,840 | 32,472
Utility Continuation/Divisional Applications | 3 hours and 18 minutes | 2,620 | 8,646
Electronic Utility Continuation/Divisional Applications | 3 hours and 18 minutes | 34,900 | 115,170
Plant Continuation/Divisional Applications | 2 hours and 12 minutes | 150 | 330
Design Continuation/Divisional Applications | 1 hour and 6 minutes | 155 | 171
Electronic Design Continuation/Divisional Applications | 1 hour and 6 minutes | 2,085 | 2,294
Continued Prosecution Applications—Design (Request Transmittal and Receipt) | 24 minutes | 50 | 20
Electronic Continued Prosecution Applications—Design (Request Transmittal and Receipt) | 24 minutes | 665 | 266
Utility Continuation-in-Part Applications | 16 hours and 30 minutes | 780 | 12,870
Electronic Utility Continuation-Part-Applications | 16 hours and 30 minutes | 10,340 | 170,610
Plant Continuation-in-Part Applications | 3 hours and 48 minutes | 35 | 133
Design Continuation-in-Part Applications | 2 hours and 42 minutes | 40 | 108
Electronic Design Continuation-in-Part Applications | 2 hours and 42 minutes | 520 | 1,404
Provisional Application for Patent Cover Sheet | 15 hours | 10,330 | 154,950
Electronic Provisional Application for Patent Cover Sheet | 15 hours | 137,220 | 2,058,300
Petition to Accept Unintentionally Delayed Priority Claim | 1 hour | 1,090 | 1,090
Petition to Accept Non-Signing Inventors or Legal Representatives/Filing by Other Than all the Inventors or a Person not the Inventor | 1 hour | 1,950 | 1,950
Petition under 37 CFR 1.6(f) to Accord the Application under 37 CFR 1.495(b) a National Stage Entry Date | 30 minutes | 1 | 1
Papers filed under the following | 45 minutes | 7,500 | 5,625
1.41—to supply the name or names of the inventor or inventors after the filing date without a cover sheet as prescribed by 37 CFR 1.51 (c)(1) in a provisional application |  |  |
1.48—for correction of inventorship in a provisional application |  |  |
1.53(c)(2)—to convert a nonprovisional application filed under 1.53(b) to a provisional application filed under 1.53(c) |  |  |
Total |  | 513,221 | 11,553,888

Estimated Total Annual Non-hour Respondent Cost Burden: $771,767,698 per year. There are capital start-up, postage, recordkeeping, and drawing costs, as well as filing fees, associated with this information. There are no maintenance or operation costs associated with this collection.

Applicants can use Compact Disk-Read Only Memory (CD-ROM) or Compact Disk-Recordables (CD-R) to submit patent applications containing large computer program listing/mega tables to the USPTO. Therefore, the cost for purchasing blank CD-R media (CDs), cases and labels for the CDs, and a padded mailing envelope for shipping, are being added to the annual (non-hour) cost for this collection. The USPTO researched the costs for these various supplies. Since these supplies are available in a variety of configurations and since this collection covers many applicants and their specific filing situation, the USPTO is using averages of the possible costs for the various quantities and configurations possible for these items.

Blank CD-R media (with or without plastic jewel cases) can range from $5.99 to $38.99, depending on the quantity of CD-R purchased. The USPTO estimates that the average cost for these items is $20.19.

If jewel cases for the CD-R are not included with the discs, they can be purchased separately in packages ranging from 10 to 100 cases, ranging in cost from $4.99 to $24.99. The USPTO estimates that the average cost for these cases is $13.16.

Software to make the disc labels can be purchased with the labels included along with the software. In some cases, the software can be downloaded. Various companies, such as Avery, Fellowes, Memorex, etc., manufacture this software and prices range from $19.99 to $35.99. The USPTO estimates that the average cost for the software is $28.

Padded mailing envelopes for sending the discs and applications to the USPTO are available in many size and quantity options. Looking at packages of envelopes in the larger 9 and 10 inches sizes, the USPTO found that the cost ranged from $14.99 to $66.99. The USPTO estimates that the average cost for the padded mailing envelopes is $35.38.

In sum, the USPTO estimates the total cost for the blank CD-R media, the jewel cases if needed, software for labeling the CDs, and the padded mailing envelopes at approximately $96.73. The USPTO estimates that 232 patent applications will need to be submitted on CD per year.

The USPTO estimates that the total capital start-up cost for this collection will be $22,441 per year.

The applications, the petition to accept a delayed priority claim, the petition to accept non-signing inventors or legal representatives, and the oversized program listing/mega table CD submissions may be submitted by mail through the United States Postal Service. The USPTO recommends that applicants file initial patent applications (which also include the continued prosecution, continuation and divisional, continuation-in-part, and provisional applications) by Express Mail to establish the filing date (otherwise the filing date of the application will be the date that it is received at the USPTO). The USPTO estimates that an application package will weigh at least one pound. Averaging the Express Mail costs for the USPS's eight mailing zones, the USPTO estimates that the average cost for sending an initial application by Express Mail will be $22.56. The USPTO estimates that up to 36,295 submissions per year may be mailed to the USPTO at an average Express Mail rate of $22.56, for a total postage cost of $818,815.

The petitions for delayed priority claim, for acceptance of non-signing inventors or legal representatives, and for according petitions under 37 CFR 1.495(b) a National Stage Entry Date can be sent by first-class mail. The USPTO estimates that these submissions will average two ounces, for a first-class postage rate of 61 cents. The USPTO estimates that up to 3,041 submissions may be mailed per year. Therefore, the USPTO estimates that the average first-class postage cost for these petitions will be $1,855 per year.

In the case of the oversized program listing/mega table CD submissions, applicants mail a CD, the application transmittal form, and the cover letter to the USPTO. The USPTO estimates that these submissions will average about three ounces and that they will be mailed in large padded mailing envelopes. The USPTO estimates that the average postage rate for these submissions will be $1.22 and that 232 oversized program listing/mega table CD submissions will be received per year. Therefore, the USPTO estimates that the postage costs for these submissions will be $283 per year.

The USPTO estimates that the total postage cost for this collection will be $820,953 per year.

There are recordkeeping costs associated with the oversized program listing/mega table CD submissions and the electronic filing of new utility, design, and provisional applications; the continuation/divisional of international applications; utility continuation/divisionals; design continuation/divisionals, continued prosecution applications (design); utility continuation-in-part applications; and design continuation-in-part applications. The USPTO advises applicants who submit applications with oversized computer listings/mega tables on CD to retain a back-up copy of the CD and a printed copy of the application transmittal form for their records. The USPTO estimates that it takes an additional 5 minutes for the applicant to produce this back-up CD copy and 2 minutes to print the copy of the application transmittal form, for a total of 7 minutes (0.12 hours) for each oversized submission. The USPTO estimates that approximately 232 applications per year will be submitted with oversized computer program listings/mega tables, for a total of 28 hours per year for retaining the back-up CD and printed application transmittal form. The USPTO believes that these back-up copies will be prepared by paraprofessionals with an estimated hourly rate of $100, for a recordkeeping cost for these back-up copies of $2,800 per year.

In addition, the USPTO also strongly advises applicants who file these applications electronically to retain a copy of the file submitted to the USPTO as evidence of authenticity, in addition to keeping the acknowledgement receipt as clear evidence that the file was received by the USPTO on the date noted. The USPTO estimates that it will take 5 seconds (0.001 hours) to print and retain a copy of the electronic submission and that approximately 466,385 submissions per year (292,620 utility, 26,705 design, 137,220 provisional, and 9,840 international applications) will use this option, for a total of 466 hours per year. Using the paraprofessional rate of $100 per hour, the USPTO estimates that the recordkeeping cost for retaining a copy of the acknowledgement receipt will be $46,600 per year.

The USPTO estimates that the total recordkeeping cost for this collection will be $49,400 per year.

Patent applicants can submit drawings with the utility, design, plant, and provisional applications. Applicants can prepare these drawings on their own or they can hire patent illustration services firms to create them. As a basis for calculating the drawing costs, the USPTO believes that all applicants will have their drawings prepared by the patent illustration firms. Estimates for the drawings can vary greatly, depending on the number of figures that need to be produced, the total number of pages for the drawings, and the complexity of the drawings. Because there are many variables involved, the USPTO is using the average of the cost ranges found for the application drawings to derive the estimated cost per sheet that is then used to calculate the total drawing costs.

The utility, plant, and design continuation and divisional applications use the same drawings as the initial filings, so they are not included in these totals. The continuation-in-part applications may use some of the same drawings as the initial applications and some new drawings may be submitted, so those numbers are included in these estimates. The drawings for the continued prosecution applications are also included in the drawing cost totals. There are no continuation, divisional, or continuation-in-part provisional applications.

Costs to produce utility drawings can range from $35 to $135 per sheet. The USPTO estimates that it can cost $85 per sheet to produce the utility drawings and that on average, 11 sheets of drawings are submitted, for an average cost of $935 to produce the utility drawings. Out of 277,120 utility applications submitted per year, the USPTO estimates that 91% or 252,179 applications will be submitted with drawings, for a total of $235,787,365 per year.

Costs to produce design drawings can range from $35 to $155 per sheet. The USPTO estimates that it can cost $95 per sheet to produce design drawings and that on average 4.8 sheets of drawings are submitted, for an average cost of $456 to produce design drawings. Out of 26,475 design applications submitted per year, the USPTO estimates that 100% will be submitted with drawings, for a total of $12,072,600 per year.

Photographs are generally submitted for the plant applications, although drawings can also be submitted. The USPTO therefore estimates that the costs to produce the photographs or drawings could range from $35 to $100. The USPTO estimates that it can cost $68 per sheet to produce plant drawings and that on average 2 sheets of drawings are submitted, for an average cost of $136 to produce plant drawings. Out of 1,045 plant application submitted per year, the USPTO estimates that 100% will be submitted with drawings, for a total of $142,120.

Costs to produce the provisional drawings can range from $35 to $135 per sheet. The USPTO estimates that it can cost $85 per sheet to produce provisional drawings and that on average 7.5 sheets of drawings are submitted, for an average cost of $638 to produce provisional drawings. Out of 147,550 provisional applications submitted per year, the USPTO estimates that 78% or 115,089 applications will be submitted with drawings, for a total of $73,426,782 per year.

The USPTO estimates that at least $321,428,867 could be added to the total non-hour cost burden as a result of patent applicants using patent illustration firms to produce the drawings for their utility, design, plant, and provisional applications.

There is also annual non-hour cost burden in the way of filing, search, examination, processing, and additional fees associated with this collection. The filing, search, and examination fees for the utility, plant, design, and provisional applications (including the continuation and divisional, continued prosecution, and continuation-in-part applications) are determined by the filing status (other entity or small entity) the applicant has selected. The filing fees for the electronically-filed new utility applications for small entities are $82, but for the rest of the applications the fees are the same as those for the paper applications. The small entity status does not apply to the petition to accept a delayed priority claim or to the petition to accept non-signing inventors or legal representatives/filing by other than all the inventors or a person not the inventor.

The total estimated filing costs of $449,446,037 for this collection are calculated in the following charts. The first chart shows the filing, search, and examination fees for the various applications. It also includes the processing fee for the papers filed under 37 CFR 1.41, 1.48, and 1.53(c)(2). The USPTO estimates that this collection will have $339,365,175 per year in the filing, search, examination, and processing fees.

Item | Resps (yr) (a) | Filing fee | Search fee | Examination fee | Total fees (b) | Total non-hour cost burden (yr) (a) × (b)
Original New Utility Applications—No Application Data Sheet—Other Entity | 5,585 | $330.00 | $540.00 | $220.00 | $1,090.00 | $6,087,650.00
Original New Utility Applications-No Application Data Sheet—Small Entity | 1,865 | 165.00 | 270.00 | 110.00 | 545.00 | 1,016,425.00
Electronic Original New Utility Applications—No Application Data Sheet—Other Entity | 74,210 | 330.00 | 540.00 | 220.00 | 1,090.00 | 80,888,900.00
Electronic Original New Utility Applications—No Application Data Sheet—Small Entity | 24,740 | 82.00 | 270.00 | 110.00 | 462.00 | 11,429,880.00
Original New Plant Applications—No Application Data Sheet—Other Entity | 495 | 220.00 | 330.00 | 170.00 | 720.00 | 356,400.00
Original New Plant Applications—No Application Data Sheet—Small Entity | 165 | 110.00 | 165.00 | 85.00 | 360.00 | 59,400.00
Original New Design Applications—No Application Data Sheet—Other Entity | 415 | 220.00 | 100.00 | 140.00 | 460.00 | 190,900.00
Original New Design Applications—No Application Data Sheet—Small Entity | 380 | 110.00 | 50.00 | 70.00 | 230.00 | 87,400.00
Electronic Original New Design Applications—No Application Data Sheet—Other Entity | 5,485 | 220.00 | 100.00 | 140.00 | 460.00 | 2,523,100.00
Electronic Original New Design Applications—No Application Data Sheet—Small Entity | 5,060 | 110.00 | 50.00 | 70.00 | 230.00 | 1,163,800.00
Original New Utility Applications—Application Data Sheet—Other Entity | 8,380 | 330.00 | 540.00 | 220.00 | 1,090.00 | 9,134,200.00
Original New Utility Applications—Application Data Sheet—Small Entity | 2,790 | 165.00 | 270.00 | 110.00 | 545.00 | 1,520,550.00
Electronic Original New Utility Applications—Application Data Sheet—Other Entity | 111,325 | 330.00 | 540.00 | 220.00 | 1,090.00 | 121,344,250.00
Electronic Original New Utility Applications—Application Data Sheet—Small Entity | 37,105 | 82.00 | 270.00 | 110.00 | 462.00 | 17,142,510.00
Original New Plant Applications—Application Data Sheet—Other Entity | 260 | 220.00 | 330.00 | 170.00 | 720.00 | 187,200.00
Original New Plant Applications—Application Data Sheet—Small Entity | 90 | 110.00 | 165.00 | 85.00 | 360.00 | 32,400.00
Original New Design Applications—Application Data Sheet—Other Entity | 505 | 220.00 | 100.00 | 140.00 | 460.00 | 232,300.00
Original New Design Applications—Application Data Sheet—Small Entity | 465 | 110.00 | 50.00 | 70.00 | 230.00 | 106,950.00
Electronic New Design Applications—Application Data Sheet—Other Entity | 6,700 | 220.00 | 100.00 | 140.00 | 460.00 | 3,082,000.00
Electronic New Design Applications—Application Data Sheet—Small Entity | 6,190 | 110.00 | 50.00 | 70.00 | 230.00 | 1,423,700.00
Continuation/Divisional of an International Application—Other Entity | 570 | 330.00 | 540.00 | 220.00 | 1,090.00 | 621,300.00
Continuation/Divisional of an International Application—Small Entity | 170 | 165.00 | 270.00 | 110.00 | 545.00 | 92,650.00
Electronic Continuation/Divisional of an International Application—Other Entity | 7,580 | 330.00 | 540.00 | 220.00 | 1,090.00 | 8,262,200.00
Electronic Continuation/Divisional of an International Application—Small Entity | 2,260 | 82.00 | 270.00 | 110.00 | 462.00 | 1,044,120.00
Utility Continuation/Divisional Applications—Other Entity | 1,965 | 330.00 | 540.00 | 220.00 | 1,090.00 | 2,141,850.00
Utility Continuation/Divisional Applications—Small Entity | 655 | 165.00 | 270.00 | 110.00 | 545.00 | 356,975.00
Electronic Utility Continuation/Divisional Applications—Other Entity | 26,175 | 330.00 | 540.00 | 220.00 | 1,090.00 | 28,530,750.00
Electronic Utility Continuation Divisional Applications—Small Entity | 8,725 | 82.00 | 270.00 | 110.00 | 462.00 | 4,030,950.00
Plant Continuation/Divisional Applications—Other Entity | 115 | 220.00 | 330.00 | 170.00 | 720.00 | 82,800.00
Plant Continuation/Divisional Applications—Small Entity | 35 | 110.00 | 165.00 | 85.00 | 360.00 | 12,600.00
Design Continuation/Divisional Applications —Other Entity | 80 | 220.00 | 100.00 | 140.00 | 460.00 | 36,800.00
Design Continuation/Divisional Applications—Small Entity | 75 | 110.00 | 50.00 | 70.00 | 230.00 | 17,250.00
Electronic Design Continuation/Divisional Applications—Other Entity | 1,085 | 220.00 | 100.00 | 140.00 | 460.00 | 499,100.00
Electronic Design Continuation/Divisional Applications—Small Entity | 1,000 | 110.00 | 50.00 | 70.00 | 230.00 | 230,000.00
Continued Prosecution Applications—Design (Request Transmittal and Receipt)—Other Entity | 26 | 220.00 | 100.00 | 140.00 | 460.00 | 11,960.00
Continued Prosecution Applications—Design (Request Transmittal and Receipt) Small Entity | 24 | 110.00 | 50.00 | 70.00 | 230.00 | 5,520.00
Electronic Continued Prosecution Applications—Design (Request Transmittal and Receipt)—Other Entity | 345 | 220.00 | 100.00 | 140.00 | 460.00 | 158,700.00
Electronic Continued Prosecution Applications—Design (Request Transmittal and Receipt)—Small Entity | 320 | 110.00 | 50.00 | 70.00 | 230.00 | 73,600.00
Utility Continuation-in-Part Applications—Other Entity | 585 | 330.00 | 540.00 | 220.00 | 1,090.00 | 637,650.00
Utility Continuation-In- Part Applications—Small Entity | 195 | 165.00 | 270.00 | 110.00 | 545.00 | 106,275.00
Electronic Utility Continuation-in-Part Applications—Other Entity | 7,755 | 330.00 | 540.00 | 220.00 | 1,090.00 | 8,452,950.00
Electronic Utility Continuation-in-Part Applications—Small Entity | 2,585 | 82.00 | 270.00 | 110.00 | 462.00 | 1,194,270.00
Plant Continuation-In-Part Applications—Other Entity | 26 | 220.00 | 330.00 | 170.00 | 720.00 | 18,720.00
Plant Continuation-In-Part Applications—Small Entity | 9 | 110.00 | 165.00 | 85.00 | 360.00 | 3,240.00
Design Continuation-In-Part Applications—Other Entity | 21 | 220.00 | 100.00 | 140.00 | 460.00 | 9,660.00
Design Continuation-In-Part Applications—Small Entity | 19 | 110.00 | 50.00 | 70.00 | 230.00 | 4,370.00
Electronic Design Continuation-in-Part Applications—Other Entity | 270 | 220.00 | 100.00 | 140.00 | 460.00 | 124,200.00
Electronic Design Continuation-in-Part Applications—Small Entity | 250 | 110.00 | 50.00 | 70.00 | 230.00 | 57,500.00
Provisional Application for Patent Cover Sheets—Other Entity | 3,820 | 220.00 | N/A | N/A | 220.00 | 840,400.000
Provisional Application for Patent Cover Sheets—Small Entity | 6,510 | 110.00 | N/A | N/A | 110.00 | 716,100.00
Electronic Provisional Application for Patent Cover Sheets—Other Entity | 50,770 | 220.00 | N/A | N/A | 220.00 | 11,169,400.00
Electronic Provisional Application for Patent Cover Sheets—Small Entity | 86,450 | 110.00 | N/A | N/A | 110.00 | 9,509,500.00
Petition to Accept Unintentionally Delayed Priority Claims | 1,090 | 1,410.00 | N/A | N/A | 1,410.00 | 1,536,900.00
Petition to Accept Non-Signing Inventors or Legal Representatives/Filing by Other Than all the Inventors or a Person not the Inventor | 1,950 | 200.00 | N/A | N/A | 200.00 | 390,000.00
Petition under 37 CFR 1.6(f) to accord the Application under 37 CFR 1.495(b) a National Stage Entry Date | 1 | N/A | N/A | N/A | N/A | 0.00
Processing Fee under 37 CFR 1.17(q) for papers filed under the following: | 7,500 | 50.00 | N/A | N/A | 50.00 | 375,000.00
1.41—to supply the name or names of the inventor or inventors after the filing date without a cover sheet as prescribed by 37 CFR 1.51(c)(1) in a provisional application.
1.48—for correction of inventorship in a provisional application
1.53(c)(2)—to convert a non provisional application filed under 1.53(b) to a provisional application filed under 1.53(c)
Totals | 513,221 |  |  |  |  | 339,365,175.00

The second chart calculates the additional fees incurred when an application is filed with additional sheets or excess claims. The USPTO estimates that these fees apply to 252,471 of the 505,721 total applications filed per year. This chart is a subset of the first chart and adds an additional $96,203,957 to the annualized (non-hour) costs; however, it does not change the number of responses. These fees are also determined by the filing status. Plant applications do not have independent claims in excess of 3 or 20, so these items are not included in the chart below.

Item | Responses (yr) (a) | Filing fee for additional sheets and claims | Average fee (b) | Total non-hour cost burden (Yr) (a) × (b)
Provisional Application Size Fee for Each Provisional Application for Patent Cover Sheet, filed for Each Additional 50 Sheets Exceeding 100 Sheets—Other Entity | 1,837 | $270.00 per each 50 Sheets over 100 | $540.00 | $991,980.00
Provisional Application Size Fee for Each Provisional Application for Patent Cover Sheet, filed for Each Additional 50 Sheets Exceeding 100 Sheets—Small Entity | 1,709 | 135.00 per each 50 Sheets over 100 | 270.00 | 461,430.00
Utility Applications, with independent claims in excess of 3—Other Entity | 71,363 | 220.00 for each claim over 3 | 440.00 | 31,399,720.00
Utility Applications, with independent claims in excess of 3—Small Entity | 25,211 | 110.00 for each claim over 3 | 220.00 | 5,546,420.00
Utility Applications, filed with Claims in Excess of 20—Other Entity | 99,777 | 52.00 for each claim over 20 | 416.00 | 41,507,232.00
Utility Applications, filed with Claims in Excess of 20—Small Entity | 40,894 | 26.00 for each claim over 20 | 260.00 | 10,632,440.00
Utility Application Size Fee for Each Original New Utility Application, filed with each additional 50 sheets exceeding 100 Sheets—Other Entity | 9,301 | 270.00 for each additional 50 sheets over 100 | 540.00 | 5,022,540.00
Utility Application Size Fee for Each Original New Utility Application, filed with each additional 50 sheets exceeding 100 sheets—Small Entity | 2,358 | 135.00 for each additional 50 sheets over 100 | 270.00 | 636,660.00
Plant Application Size Fee for Each Original New Plant Application, filed with each additional 50 sheets exceeding 100 sheets—Other Entity | 2 | 270.00 for each additional 50 sheets over 100 | 270.00 | 540.00
Plant Application Size Fee for Each Original New Plant Application, filed with each additional 50 sheets exceeding 100 sheets—Small Entity | 1 | 135.00 for each additional 50 sheets over 100 | 135.00 | 135.00
Design Application Size Fee for Each Original New Design Application, filed for each additional 50 sheets that exceeds 100 sheets—Other Entity | 14 | 270.00 for each additional 50 sheets over 100 | 270.00 | 3,780.00
Design Application Size Fee for Each Original New Design Application, filed for each additional 50 sheets that exceeds 100 sheets—Small Entity | 4 | 135.00 for each additional 50 sheets over 100 | 270.00 | 1,080.00
Totals | 252,471 |  |  | 96,203,957.00

The third chart calculates the surcharges and fees incurred when an application, the search or examination fee, or the oath or declaration is filed late, when the application is filed with multiple dependent claims, or when the application is filed with a non-English specification. The USPTO estimates that these fees apply to 111,231 of the 505,721 applications filed per year. This chart is a subset of the first chart and adds an additional $13,876,905 to the annualized (non-hour) costs; however, it does not change the number of responses. Except for the fee for the non-English specification, these fees are also determined by the filing status. Plant applications are not filed with multiple dependent claims so they are not included in this chart.

Item | Responses (yr) (a) | Surcharge fee for late filing, multiple dependent claims, or non-english specification fees | Total non-hour cost burden (yr) (a) × (b)
Surcharge for Late Filing of Provisional Application for Patent Cover Sheets—Other Entity | 2,588 | $50.00 | $129,400.00
Surcharge for Late Filing of Provisional Application for Patent Cover Sheets—Small Entity | 4,675 | 25.00 | 116,875.00
Utility Applications, filed with Multiple Dependent Claims—Other Entity | 7,101 | 390.00 | 2,769,390.00
Utility Applications, filed with Multiple Dependent Claims—Small Entity | 2,739 | 195.00 | 534,105.00
Utility Applications, filed with a Surcharge for Late filing, search or examination fee, or oath/declaration—Other Entity | 55,935 | 130.00 | 7,271,550.00
Utility Applications, Filed with a Surcharge for Late Filing, search or examination fee, or oath/declaration—Small Entity | 27,158 | 65.00 | 1,765,270.00
Plant Applications, filed with a Surcharge for Late Filing, Search or Examination Fee, or Oath/Declaration—Other Entity | 172 | 130.00 | 22,360.00
Plant Applications, filed with a Surcharge for Late Filing, Search or Examination Fee, or Oath/Declaration—Small Entity | 83 | 65.00 | 5,395.00
Design Applications, filed with a Surcharge for Late Filing, Search or Examination Fee, or Oath/Declaration—Other Entity | 4,400 | 130.00 | 572,000.00
Design Applications, filed with a Surcharge for Late Filing, Search or Examination Fee, or Oath/Declaration—Small Entity | 2,136 | 65.00 | 138,840.00
Non-English Specification | 4,244 | 130.00 | 551,720.00
Totals | 111,231 |  | 13,876,905.00

The USPTO estimates that the total non-hour respondent cost burden for this collection, in the form of capital start-up, postage, recordkeeping, and drawing costs, in addition to the filing fees, is $771,767,698 per year.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized or included in the request for OMB approval of this information collection; they also will become a matter of public record.

Dated: April 27, 2010.
Susan K. Fawcett,
Records Officer, USPTO, Office of the Chief Information Officer, Office of Information anagement Services, Data Administration Division.

[FR Doc. 2010-10288 Filed 4-30-10; 8:45 am]

BILLING CODE 3510-16-P